SURFACE TRANSPORTATION BOARD

[Docket No. EP 552 (Sub-No. 28)]

Railroad Revenue Adequacy—2023 Determination

AGENCY: Surface Transportation Board.

ACTION: Notice of decision.

SUMMARY: On September 6, 2024, the Board served a decision announcing the 2023 revenue adequacy determinations for the nation's Class I railroads. Three Class I railroads (BNSF Railway Company, CSX Transportation, Inc., and Union Pacific Railroad Company) were found to be revenue adequate.

DATES: This decision is effective on September 6, 2024.

FOR FURTHER INFORMATION CONTACT: Pedro Ramirez, (202) 245-0333. If you require an accommodation under the Americans with Disabilities Act, please call (202) 245-0245.

SUPPLEMENTARY INFORMATION: Under 49 U.S.C. 10704(a)(3), the Board is required to make an annual determination of railroad revenue adequacy. A railroad is considered revenue adequate under 49 U.S.C. 10704(a) if it achieves a rate of return on net investment (ROI) equal to at least the current cost of capital for the railroad industry. For 2023, this number was determined to be 9.87% in Railroad Cost of Capital—2023, EP 558 (Sub-No. 27) (STB served Aug. 7, 2024). The Board then applied this revenue adequacy standard to each Class I railroad. Three Class I carriers (BNSF Railway Company, CSX Transportation, Inc., and Union Pacific Railroad Company) were found to be revenue adequate for 2023.

The decision in this proceeding is posted at www.stb.gov.

Decided: August 30, 2024.
By the Board, Board Members Fuchs, Hedlund, Primus, and Schultz.
Eden Besera,
Clearance Clerk.

[FR Doc. 2024-20210 Filed 9-6-24; 8:45 am]

BILLING CODE 4915-01-P